DEPARTMENT OF COMMERCE

Census Bureau

[Docket No.: 0909181279-91281-01]

Privacy Act of 1974; System of Records

AGENCY: U.S. Census Bureau, Department of Commerce.

ACTION: Notice of New Privacy Act System of Records; COMMERCE/CENSUS-12, Foreign Trade Statistics.

SUMMARY: The Department of Commerce (Commerce) publishes this notice to announce the effective date of a Privacy Act System of Records notice entitled, COMMERCE/CENSUS-12, Foreign Trade Statistics.

DATES: The system of records becomes effective on October 1, 2009.

ADDRESSES: For a copy of the system of records please mail requests to: Chief Privacy Officer, Privacy Office, Room HQ-8H168, U.S. Census Bureau, Washington, DC 20233-3700.

SUPPLEMENTARY INFORMATION: On June 23, 2009, the Department of Commerce published and requested comments on a proposed Privacy Act System of Records notice entitled COMMERCE/CENSUS-12, Foreign Trade Statistics. Commerce received one comment in response to this notice. The commenter recommended that the Census Bureau develop an alternative approach for filers to eliminate the public display of a filer's Social Security Number (SSN) and Employer Identification Number (EIN), as well as discontinue collecting SSN for identification purposes during the Automated Export System (AES) registration process.

In response to this comment, Commerce noted that previously pursuant to an interim agreement between the U.S. Census Bureau and the Commenter, individuals who were required to file information about exports, but who could not do so electronically through the AES, filed the required information via mail and included an AES Downtime Citation on these filings. The AES Downtime Citation could include a customer's SSN, and thus the SSN might become visible to the public. The commenter has worked the past year and a half to develop an automated collection system that allows exporters to electronically submit the required information. This system eliminates the need for the interim solution and the possible public display of SSN when the AES is down. As part of a collaborative effort with the U.S. Census Bureau, the commenter agreed it would collect the Internal Transaction Number (ITN) for those shipments that require the proof of filing citation. The ITN is the AES-generated confirmation number the filer receives when information is accurately filed in the system. It would be assumed where no ITN is submitted, an AES filing is not required and no information would be collected. In addition, the U.S. Census Bureau has informed the commenter of its publication, on August 5, 2009 in the Federal Register, of an Interim Final Rule amending 15, CFR part 30, Foreign Trade Regulations, to eliminate the collection of SSNs for identification purposes in the AES. The rule carries out the purposes of the Privacy Act of 1974, 5 U.S.C. 552a, to ensure that the U.S. Principal Party in Interest's (USPPI) or U.S. authorized agent's personal information, such as its SSN, is protected. Under changes outlined in the rule, all USPPI and U.S. authorized agents who currently report an SSN when filing in the AES must instead provide an EIN or Data Universal Numbering System (DUNS) number, which is supplied by Dun & Bradstreet. By this notice, the Department is adopting the proposed system as final without changes effective October 1, 2009.

Dated: September 25, 2009.
Brenda Dolan,
Department of Commerce, Freedom of Information/Privacy Act Officer.

[FR Doc. E9-23674 Filed 9-30-09; 8:45 am]

BILLING CODE 3510-07-P